NATIONAL SCIENCE FOUNDATION

Advisory Committee for Mathematical and Physical Sciences

Correction

The National Science Foundation published a Notice of Meeting in the Federal Register on March 19, 2012. The notice was published on page 16076, column 3. The notice incorrectly states that the meeting is on April 7-8, 2012.

This notice announces the corrected date and time of the meeting. The correct meeting information is as follows:

Name: Directorate for Mathematical and Physical Sciences Advisory Committee (66).

Date/Time: April 5, 2012, 9 a.m.-6 p.m., April 6, 2012, 9 a.m.-3 p.m.

Place: National Science Foundation, Room 1235, 4201 Wilson Boulevard, Arlington, VA 22230.

Type of Meeting: Open.

Contact Person: Dr. Morris L. Aizenman, Senior Science Associate, Directorate for Mathematical and Physical Sciences, Room 1005, National Science Foundation, 4201 Wilson Boulevard, Arlington, VA 22230, (703) 292-8807.

Purpose of Meeting: To provide advice and recommendations concerning NSF science and education activities within the Directorate for Mathematical and Physical Sciences.

Agenda: Update on current status of Directorate, Report of MPS Committee of Visitors, Report of NSF Advisory Subcommittees, Meeting of MPSAC with Divisions within MPS Directorate, Discussion of MPS Long-term Planning Activities.

Summary Minutes: May be obtained from the contact person listed above.

Dated: March 20, 2012.
Susanne E. Bolton,
Committee Management Officer.

[FR Doc. 2012-7040 Filed 3-22-12; 8:45 am]

BILLING CODE 7555-01-P